DEPARTMENT OF COMMERCE

Foreign-Trade Zones Board

[Order No. 1975]

Expansion of Foreign-Trade Zone 106 Under Alternative Site Framework Oklahoma City, Oklahoma

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Port Authority of Greater Oklahoma City, grantee of Foreign-Trade Zone 106, submitted an application to the Board (FTZ Docket B-57-2014, docketed 08-12-2014) for authority to expand the zone under the ASF to include a new magnet site (proposed Site 18) in Shawnee, Oklahoma, adjacent to the Oklahoma City Customs and Border Protection port of entry;

Whereas, notice inviting public comment was given in the Federal Register (79 FR 48117, 08-15-2014) and the application has been processed pursuant to the FTZ Act and the Board's regulations; and,

Whereas, the Board adopts the findings and recommendation of the examiner's report, and finds that the requirements of the FTZ Act and the Board's regulations are satisfied;

Now, therefore, the Board hereby orders:

The application to expand FTZ 106 under the ASF is approved, subject to the FTZ Act and the Board's regulations, including section 400.13, to the Board's standard 2,000-acre activation limit for the zone, and to an ASF sunset provision for magnet sites that would terminate authority for Site 18 if not activated within the initial seven years from the month of approval.

Signed at Washington, DC this 3rd day of April 2015.
Paul Piquado,
Assistant Secretary of Commerce for Enforcement and Compliance, Alternate Chairman, Foreign-Trade Zones Board.
ATTEST: Andrew McGilvray,
Executive Secretary.

[FR Doc. 2015-08457 Filed 4-10-15; 8:45 am]

BILLING CODE 3510-DS-P